DEPARTMENT OF AGRICULTURE

Food Safety and Inspection Service

[Docket No. FSIS-2020-0010]

Notice of Request for Renewal of an Approved Information Collection (State Meat and Poultry Programs)

AGENCY: Food Safety and Inspection Service, USDA.

ACTION: Notice and request for comments.

SUMMARY: In accordance with the Paperwork Reduction Act of 1995 and the Office of Management and Budget (OMB) regulations, the Food Safety and Inspection Service (FSIS) is announcing its intention to request renewal of the approved information collection regarding State Meat and Poultry Programs. There are no changes to the existing information collection. The approval for this information collection will expire on July 31, 2020.

DATES: Submit comments on or before May 19, 2020.

ADDRESSES: FSIS invites interested persons to submit comments on this Federal Register notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2020-0010. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION:

Title: State Meat and Poultry Programs.

OMB Number: 0583-0170.

Expiration Date of Approval: 7/31/2020.

Type of Request: Renewal of an approved information collection.

Abstract: FSIS has statutory authority under the Federal Meat Inspection Act (FMIA) (21 U.S.C. 601, et seq.), and the Poultry Products Inspection Act (PPIA) (21 U.S.C. 451, et seq.), to set national standards for meat and poultry inspection (MPI). Section 301(c) of the FMIA (21 U.S.C. 661(c)) and section 5(c) of the PPIA (21 U.S.C. 454(c)) authorize the Secretary of Agriculture (Secretary) to designate a state as one in which the provisions of Titles I and IV of the FMIA and sections 1-4, 6-11, and 12-22 of the PPIA will apply to operations and transactions wholly within the state after the Secretary has determined that requirements at least “equal to” those imposed under the Acts have not been developed and effectively enforced by the state. Under a cooperative agreement with FSIS, states may operate their own MPI programs (i.e., meat, poultry, or both; egg products are excluded) provided they meet and enforce requirements “at least equal to” those imposed under the FMIA and PPIA. FSIS is responsible for certifying and monitoring that participating states meet the MPI program's “at least equal to” standard.¹

¹ FSIS also administers a voluntary cooperative inspection program under which state-inspected establishments in participating states with 25 or fewer employees are eligible to ship meat and poultry products in interstate commerce (21 U.S.C. 683 and U.S.C. 472) (9 CFR 321.3, Part 332, 381.187, and Part 381 Subpart Z). FSIS collects information for this program under OMB Control Number 0583-0143.

FSIS is announcing its intention to request renewal of the approved information collection regarding State Meat and Poultry programs. FSIS collects information from State Meat and Poultry Inspection programs to ensure that their programs operate in a manner that is at least equal to FSIS's Federal inspection program in the protection of public interest; comply with requirements of Federal civil rights laws and regulations; meet necessary laboratory quality assurance standards and testing frequencies; and have the capability to perform microbiology and food chemistry methods that are “at least equal to” methods performed in the FSIS laboratories. There are no changes to the existing information collection. The approval for this information collection will expire on July 31, 2020.

Twenty-seven states have MPI programs that operate under a cooperative agreement with FSIS and are subject to the comprehensive state review process. Comprehensive reviews of State MPI programs are conducted by an interdisciplinary team of FSIS Auditors from the Office of Investigation, Enforcement and Audit (OIEA), the Financial Management Division (FMD), the Civil Rights Staff (CRS), and the Office of Public Health Science Laboratory Quality Assurance Staff (LQAS). There are nine review components that make up the comprehensive state review process. The components are as follows: Component 1—Statutory Authority and Food Safety Regulations; Component 2—Inspection; Component 3—Sampling Programs; Component 4—Staffing, Training, and Supervision; Component 5—Humane Handling; Component 6—Compliance; Component 7—Laboratory Quality Assurance Program and Methods; Component 8—Civil Rights; and Component 9—Financial Accountability.

For each of the first six components, State MPI programs submit annual self-assessment documentation to FSIS to demonstrate that the State MPI program is meeting the “at least equal to” Federal inspection requirements. Each component of the annual self-assessment includes a written narrative statement and documentation demonstrating that the program continuously meets the criteria to be “at least equal to” the Federal inspection program. State MPI programs also submit sufficient documentation to demonstrate that the program either follows current FSIS statutes, regulations, applicable directives and notices, and has implemented any changes necessary to maintain the “at least equal to” status or that the State MPI program has an effective, analogous program that would also be “at least equal to” the Federal inspection program. All State MPI programs need to demonstrate they operate in a manner that protects the health and welfare of consumers by ensuring that the meat and poultry products distributed by the establishments in the program are wholesome, not adulterated, and properly marked, labeled, and packaged.

The annual self-assessment submission also includes one or more narratives describing the internal controls used by the State MPI program that: (1) Provide assurances and can measure the effectiveness of the program under the “at least equal to” criteria; (2) demonstrate how non-conformances will be addressed by corrective actions; and (3) demonstrate how the State MPI program will be maintained throughout the next 12 months.

For Component 7 of the comprehensive state review process, states submit documentation of their laboratory quality assurance programs and methods. States document their laboratory quality assurance program activities on the FSIS Form 5720-14, State Meat and Poultry Inspection Program Laboratory Quality Management System Checklist. States submit copies of new or revised laboratory analytical methods accompanied by a FSIS Form 5720-15, Laboratory Method Notification Form.

For Component 8 of the comprehensive state review process, states submit documentation of their Civil Rights compliance. States receive FSIS monies to operate their MPI programs, and as such, are subject to the nondiscrimination provisions of Title VI, Title IX, Section 504 of the Rehabilitation Act of 1973 and the Age Discrimination Act of 1975. In order to assess the 27 states' compliance with these provisions, FSIS requests information on the states' civil rights programs and controls on FSIS Form 1520.1—Civil Rights Compliance of State Inspection Programs. This form requests information regarding nine areas of civil rights compliance, which include: (1) Civil Rights Assurances; (2) State Infrastructure and Program Accountability; (3) Public Notification; (4) Racial and Ethnic Data Collection; (5) Civil Rights Complaints of Discrimination; (6) Civil Rights Training; (7) Disability Compliance, (8) Limited English Proficiency; and (9) Compliance with the Age Discrimination Act of 1975. The form allows states to: (1) Document management controls they have implemented and maintained with regard to these nine categories and (2) document how their overall civil rights program constitutes a civil rights program “at least equal to” the FSIS Federal program.

FSIS requests documentation concerning all components of the self-assessment and completion of these forms annually. Submission of the completed forms is due by November 1 each year to the Coordinators from OIEA, FMD, CRS and LQAS. In each submission, states respond to all questions and report on programs and activities implemented and maintained during the prior fiscal year (October 1 through September 30).

In addition to the annual self-assessment submission, State MPI programs are subject to an on-site review at a minimum frequency of once every three years to verify the accuracy and implementation of the self-assessment submissions. In the year that a State MPI program is scheduled for an on-site review, FSIS closely examines records from the State MPI program in order to determine annually whether the program is “at least equal to” the Federal inspection program.

Additionally, State MPI programs submit FSIS Form 5720-15, Laboratory Method Notification Form whenever a state lab revises or adds a new method for MPI program testing. FSIS has made the following estimates on the basis of an information collection assessment.

Estimate of Burden: FSIS estimates that it will take each respondent an average of 255 hours to complete the forms and narratives.

Respondents: State MPI Directors, Program Managers, and/or Human Resources Officials.

Estimated No. of Respondents: 27 respondents.

Estimated No. of Annual Responses per Respondent: 1.

Estimated Total Annual Burden on Respondents: 6,887 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Paul Kiecker,
Administrator.

[FR Doc. 2020-05782 Filed 3-19-20; 8:45 am]

BILLING CODE 3410-DM-P